FEDERAL RESERVE SYSTEM

Agency Information Collection Activities: Announcement of Board Approval Under Delegated Authority and Submission to OMB

AGENCY: Board of Governors of the Federal Reserve System

SUMMARY: Background.

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Clearance Officer-Cindy Ayouch--Division of Research and Statistics, Board of Governors of the Federal Reserve System, Washington, DC 20551 (202-452-3829).

OMB Desk Officer-Joseph Lackey--Office of Information and Regulatory Affairs, Office of Management and Budget, New Executive Office Building, Room 10235, Washington, DC 20503.

Final approval under OMB delegated authority of the extension for three years, with revision, of the following report:

1. Report title: The Government Securities Dealers Reports: The Weekly Report of Dealer Positions (FR 2004A), The Weekly Report of Cumulative Dealer Transactions (FR 2004B), The Weekly Report of Dealer Financing and Fails (FR 2004C), The Weekly Report of Specific Issues (FR 2004SI), The Daily Report of Specific Issues (FR 2004SD), and The Daily Report of Dealer Activity in Treasury Financing (FR 2004WI).

Agency form number: FR 2004

OMB Control number: 7100-0003

Frequency: Weekly, Daily

Reporters: Primary dealers in the U.S. government securities market

Annual reporting hours: 12,342 hours

Estimated average hours per response: FR 2004A, 1.5 hours; FR 2004B, 2 hours; FR 2004C, 1.25 hours; FR 2004SI, 2 hours; FR 2004SD, 2 hours; FR 2004WI, 1 hour.

Number of respondents: 22

General description of report: This information collection is voluntary (12 U.S.C. 248 (a)(2), 353-359, and 461(c)); however, primary dealers are expected to file the report with the Federal Reserve. Individual respondent data are regarded as confidential under the Freedom of Information Act (5 U.S.C. 552 (b)(4) and (b)(8)).

Abstract: The FR 2004A collects data as of Wednesday of each week on dealers' outright positions in Treasury and other marketable debt securities. The FR 2004B collects data cumulated for the week ended Wednesday on the volume of transactions made by dealers in the same instruments for which positions are reported on the FR 2004A. The FR 2004C collects data as of Wednesday of each week on the amounts of dealer financing and fails. The FR 2004SI collects data as of Wednesday of each week on outright, financing, and fails positions in current or on-the-run issues. Under certain circumstances the FR 2004SI data can also be collected on a daily basis for on-the-run and off-the-run securities. The FR 2004WI collects daily information on a next-business-day basis on positions in to-be-issued Treasury coupons securities, mainly the trading on a when-issued delivery basis.

Current actions: The Federal Reserve proposed to make the following modifications to the reporting series: 1) delete the columns for cumulative weekly volume and average weekly rates for repurchase agreements on the FR 2004C, 2) include a new column, FRBNY Security ID, on the FR 2004SI, 3) formalize the collection of the FR 2004SI daily data in the new reporting form, FR 2004SD, 4) publish all data collected on the FR 2004C, (5) change the data submission schedule to be uniform across the four weekly reports, and (6) adjust row and column headings to be uniform across reports and to more clearly identify the data to be reported. The revised reporting forms will be implemented as of January 7, 2004.

Board of Governors of the Federal Reserve System, November 19, 2003.
Jennifer J. Johnson
Secretary of the Board.

[FR Doc. 03-29468 Filed 11-25-03; 8:45 am]

BILLING CODE 6210-01-S